DEPARTMENT OF TRANSPORTATION

Office of the Secretary

[Docket No. DOT-OST-2010-0054]

RIN 2105-ADO4

Application To Renew Information Collection Request OMB No. 2105-0551

AGENCY: Office of the Secretary (OST), Department of Transportation (Department).

ACTION: Notice and request for comments.

SUMMARY: This notice requests public participation in the Office of Management and Budget (OMB) approval process for the renewal of an existing OST information collection. In compliance with the Paperwork Reduction Act of 1995, this notice announces that the Information Collection Request (ICR) described below has been forwarded to OMB for extension of the currently approved collection. The ICR describes the nature of the information and the expected burden. OST published a Federal Register notice with a 60-day comment period soliciting comments on the following collection of information on March 8, 2010. The purpose of this notice is to allow the public an additional 30 days from the date of this notice to submit comments to the recently published application to renew ICR 2105-0551, “Reporting Requirements for Disability-Related Complaints.”

DATES: Comments on this notice must be received by June 18, 2010.

ADDRESSES: You may submit comments [identified by Docket No. DOT-OST-2010-0551] through one of the following methods:

• Federal eRulemaking Portal: http://www.regulations.gov. Follow the online instructions for submitting comments.

• Fax: 1-202-493-2251.

• Mail: Docket Management Facility, U.S. Department of Transportation, 1200 New Jersey Avenue, SE., Washington, DC 20590.

• Hand Delivery: West Building, Ground Floor, Rm. W-12-140, 1200 New Jersey Ave., SE., Washington, DC 20590-0001 (between 9 a.m. and 5 p.m. EST, Monday through Friday, except on Federal holidays).

FOR FURTHER INFORMATION CONTACT: Vinh Q. Nguyen or Blane A. Workie, Office of the General Counsel, Office of the Secretary, U.S. Department of Transportation, 1200 New Jersey Avenue, SE., Washington, DC 20590, 202-366-9342 (Voice), 202-366-7152 (Fax), or vinh.nguyen@dot.gov or blane.workie@dot.gov (E-mail). Arrangements to receive this document in an alternative format may be made by contacting the above-named individuals.

SUPPLEMENTARY INFORMATION: The Paperwork Reduction Act of 1995 (PRA) and its implementing regulations, 5 CFR Part 1320, require Federal agencies to issue two notices seeking public comment on information collection activities before OMB may approve paperwork packages. 44 U.S.C. 3506, 3507; 5 CFR 1320.5, 1320.8(d)(1), 1320.12. On March 8, 2010, OST published a 60-day notice in the Federal Register soliciting comment on ICRs for which the agency was seeking OMB approval. See 75 FR 10547. OST received no comments after issuing this notice. Accordingly, the Department announces that these information collection activities have been re-evaluated and certified under 5 CFR. 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983 (Aug. 29, 1995). OMB believes that the 30-day notice informs the regulated community to file relevant comments and affords the agency adequate time to digest public comments before it renders a decision. 60 FR 44983 (Aug. 29, 1995). Therefore, respondents should submit their respective comments to OMB within 30 days of publication to best ensure their full consideration. 5 CFR 1320.12(c); see also 60 FR 44983 (Aug. 29, 1995). The summaries below describe the nature of the ICR and the expected burden. The unchanged requirements are being submitted for clearance by OMB as required by the PRA.

Title: Reporting Requirements for Disability-Related Complaints.

OMB Control Number: 2105-0551.

Type of Request: Renewal of currently approved Information Collection Request.

Background: On July 8, 2003, OST published a final rule that requires most certificated U.S. and foreign air carriers operating to, from and within the U.S. that conduct passenger-carrying service utilizing large aircraft to record complaints that they receive alleging inadequate accessibility or discrimination on the basis of disability. The carriers must also categorize these complaints according to the type of disability and nature of complaint, prepare a summary report annually of the complaints received during the preceding calendar year, submit the report to the Department's Aviation Consumer Protection Division, and retain copies of correspondence and records of action taken on the reported complaints for three years. The rule requires carriers to submit their annual report via the World Wide Web except if the carrier can demonstrate an undue burden in doing so and receives permission from the Department to submit it in an alternative manner. The first required report covering calendar year 2004 was due to the Department on January 24, 2005, the second report covering calendar year 2005 was due on January 30, 2006, the third report covering calendar year 2006 was due on January 29, 2007, the fourth report covering calendar year 2007 was due on January 28, 2008, and the fifth report covering calendar year 2008 was due on January 26, 2009. Subsequent reports of disability-related complaints received by carriers are due each year on the last Monday in January for the prior calendar year. On August 24, 2007, OMB approved information collection of disability-related complaints, “Reporting Requirements for Disability-related Complaints” through August 31, 2010. The application to renew this information collection request was published in the Federal Register on Monday, March 8, 2010 (75 FR 10547).

Respondents: Certificated U.S. and foreign air carriers operating to, from, and within the United States that conduct passenger-carrying service with large aircraft.

Estimated Number of Respondents: 370.

Estimated Total Burden on Respondents: 185 hours.

Comments are invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. All comments will also become a matter of public record.

As noted earlier, OST published a Federal Register notice with a 60-day comment period for this ICR on Monday, March 8, 2010 (75 FR 10547).

Issued in Washington, DC, 2010, under authority delegated in 49 CFR part 1.
Samuel Podberesky,
Assistant General Counsel for Aviation Enforcement and Proceedings.

[FR Doc. 2010-11959 Filed 5-18-10; 8:45 am]

BILLING CODE 4910-9X-P